ENVIRONMENTAL PROTECTION AGENCY

[FRL-9939-84-OW]

Notice of Open Meeting of the Environmental Financial Advisory Board

AGENCY: Environmental Protection Agency (EPA).

ACTION: Notice.

SUMMARY: The EPA's Environmental Financial Advisory Board (EFAB) will hold a public meeting on January 12-13, 2016. EFAB is an EPA advisory committee chartered under the Federal Advisory Committee Act to provide advice and recommendations to EPA on creative approaches to funding environmental programs, projects, and activities.

The purpose of this meeting is to hear from informed speakers on environmental finance issues, proposed legislation, and EPA priorities; to discuss activities, progress, and preliminary recommendations with regard current EFAB work projects; and to consider requests for assistance from EPA offices. Environmental finance discussions and presentations are expected on, but not limited to, the following topics: Financing operations and maintenance costs at green infrastructure sites; financing stormwater and green infrastructure programs; public-private partnerships for water infrastructure projects; financing pre-development activities in communities; affordability challenges in the water sector; and financial capacity development for small drinking/wastewater systems. The meeting is open to the public; however, seating is limited. All members of the public who wish to attend the meeting must register, in advance, no later than Monday, December 28, 2015. Registration is required for all members of the public to ensure an expeditious security process.

DATES: The full board meeting will be held on Tuesday, January 12, 2016 from 1:00 p.m. to 5 p.m., EST and Wednesday, January 13, 2015 from 9:00 a.m. to 5 p.m., EST.

ADDRESSES: Hamilton Crowne Plaza Hotel, 1001 14th St. NW., Washington, DC 20005.

FOR FURTHER INFORMATION CONTACT: For information on access or services for individuals with disabilities, or to request accommodations for a person with a disability, please contact Sandra Williams at (202) 564-4999 or williams.sandra@epa.gov, at least 10 days prior to the meeting, to allow as much time as possible to process your request.

Dated: December 2, 2015.
Andrew D. Sawyers,
Director, Office of Wastewater Management, Office of Water.

[FR Doc. 2015-31044 Filed 12-8-15; 8:45 am]

BILLING CODE 6560-50-P